DEPARTMENT OF STATE

[Public Notice 8132]

U.S. Department of State Advisory Committee on Private International Law (ACPIL): Notice of Public Meeting of the Study Group on the Hague Judgments Project

The Office of the Assistant Legal Adviser for Private International Law, Department of State, hereby gives notice of a public meeting of the Study Group on the Judgments Project in the Hague Conference on Private International Law.

Last April, the General Affairs and Policy Council of the Hague Conference decided to proceed with the Judgments Project as follows:

(1) A Working Group was established to draft proposals for inclusion in an instrument on the recognition and enforcement of judgments; and

(2) An Experts' Group will convene separately to give further consideration to whether it would be desirable and feasible to include in this or another instrument provisions on jurisdiction.

The Permanent Bureau of the Hague Conference has announced that two meetings will be held in The Hague during the latter part of February (precise dates to be determined): The Working Group on recognition and enforcement of judgments will meet, followed by a meeting of the Experts' Group on jurisdiction and related issues.

The purpose of the meeting of the Study Group is to obtain the views of concerned stakeholders on these matters; specifically, reactions to the issue papers that are being prepared by the Permanent Bureau for the Hague meetings. Those issue papers will be circulated, as soon as they become available, to those individuals who advise that they intend to participate in the public meeting. This is not a meeting of the full Advisory Committee.

Time and Place: The meeting will take place on Wednesday, January 23, 2013 from 9:00 a.m. until 2:00 p.m., EST in Room 240, South Building, State Department Annex 4. Participants should arrive at the Navy Hill gate at the corner of 23rd Street NW. and D Street NW. before 8:30 a.m. for visitor screening. Persons arriving later will need to make arrangements for entry using the contact information provided below. If you are unable to attend the public meeting and would like to participate from a remote location, teleconferencing will be available.

Public Participation: This meeting is open to the public, subject to the capacity of the meeting room.

Access to Navy Hill is strictly controlled. For pre-clearance purposes, those planning to attend in person are requested to email or phone Tricia Smeltzer (smeltzertk@state.gov, 202-776-8423) or Niesha Toms (tomsnn@state.gov, 202-776-8420) and provide your full name, address, date of birth, citizenship, driver's license or passport number, affiliation, and email address. This will greatly facilitate entry.

Participants will be met at the Navy Hill gate at 23rd and D Streets NW., and will be escorted to the South Building.

A member of the public needing reasonable accommodation should advise Ms. Smeltzer or Ms. Toms not later than January 16, 2013. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: December 12, 2012.
Keith Loken,
Assistant Legal Adviser, Private International Law, Office of the Legal Adviser, Department of State.

[FR Doc. 2012-30865 Filed 12-20-12; 8:45 am]

BILLING CODE 4710-08-P